DEPARTMENT OF HEALTH AND HUMAN SERVICES

Centers for Disease Control and Prevention

Board of Scientific Counselors, Center for Preparedness and Response (BSC, CPR); Correction

Notice is hereby given of a change in the meeting of the Board of Scientific Counselors, Center for Preparedness and Response (BSC, CPR); June 1, 2022, from 1:00 p.m. to 5:00 p.m., EDT; and June 2, 2022, from 1:00 p.m. to 4:30 p.m., EDT, which was published in the Federal Register on April 22, 2022, Volume 87, Number 78, page 24168.

The dates and matters to be considered should read as follows:

DATES: The meeting will be held on June 1, 2022, from 1:00 p.m. to 5:00 p.m., EDT.

SUPPLEMENTARY INFORMATION:

Matters to be Considered: (1) CPR Preparedness and Response Strategic Plan Update; (2) The Next Generation of Public Health Emergency Preparedness (PHEP); (3) COVID-19 Response Update; (4) Strategic Capacity Building and Innovation Program Review Working Group (SRWG) Update; and (5) BSC Discussion of Future Meeting Topics. Agenda items are subject to change as priorities dictate.

FOR FURTHER INFORMATION CONTACT: Dometa Ouisley, Office of Science and Public Health Practice, Centers for Disease Control and Prevention, 1600 Clifton Road NE, Mailstop H21-6, Atlanta, Georgia 30329-4027; Telephone: (404) 639-7450; Email: DOuisley@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-12089 Filed 6-3-22; 8:45 am]

BILLING CODE 4163-18-P